DEPARTMENT OF TRANSPORTATION

Coast Guard

33 CFR Part 164

46 CFR Parts 25 and 27

[USCG-2000-6931]

RIN 2115-AF53

Fire-Suppression Systems and Voyage Planning for Towing Vessels

AGENCY: Coast Guard, DOT.

ACTION: Extension of comment period.

SUMMARY: In response to public requests, the Coast Guard is extending the comment period on its supplemental notice of proposed rulemaking (SNPRM) on Fire-Suppression Systems and Voyage Planning for Towing Vessels. Extending the comment period gives the public and the Towing Safety Advisory Committee (TSAC) more time to submit comments and recommendations on the issues raised in our SNPRM. These proposed rules would improve the safety of towing vessels by requiring the installation of fixed fire-extinguishing systems in their engine rooms, and by requiring their owners or operators, and their masters, to ensure that voyage plans are complete before they commence their trips with any barge in tow.

DATES: Comments on the SNPRM must reach the Coast Guard on or before May 8, 2001.

ADDRESSES: You may mail written comments to the Docket Management Facility [USCG-2000-6931], U.S. Department of Transportation (DOT), room PL-401, 400 Seventh Street, SW., Washington, DC 20590-0001, or deliver them to room PL-401, located on the Plaza Level of the Nassif Building at the same address between 10 a.m. and 5 p.m., Monday through Friday, except Federal holidays. The telephone number is 202-366-9329. You may also E-mail comments using the Marine Safety and Environmental Protection Regulations Web Page at http://www.uscg.mil/hq/g-m/regs/reghome.html.

The Docket Management Facility maintains the public docket for the rulemaking. Comments will become part of this docket and will be available for inspection or copying at room PL-401, located on the Plaza Level of the Nassif Building at the same address between 10 a.m. and 5 p.m., Monday through Friday, except Federal holidays. You may electronically access the public docket on the Internet at http://dms.dot.gov.

FOR FURTHER INFORMATION CONTACT: For questions on viewing, or submitting material to, the docket, call Ms. Dorothy Beard, Chief, Dockets, Department of Transportation, telephone 202-366-9329. For information on the SNPRM provisions contact (for fire suppression) Mr. Randall Eberly, P.E., Project Manager, Office of Design and Engineering Standards (G-MSE), telephone 202-267-1861, or contact (for voyage planning) Mr. Robert S. Spears, Project Manager, Office of Standards Evaluation and Development (G-MSR), telephone 202-267-1099.

SUPPLEMENTARY INFORMATION:

Request for Comments

The Coast Guard encourages you to submit written data, views, or arguments. If you submit comments, you should include your name and address, identify the SNPRM [USCG-2000-6931; published in the Federal Register on November 8, 2000 (65 FR 66941)] and the specific section or question in the document to which your comments apply, and give the reason for each comment. Please submit one copy of all comments and attachments in an unbound format, no larger than 8½ by 11 inches, suitable for copying and electronic filing to the DOT Docket Management Facility at the address under ADDRESSES. If you want us to acknowledge receiving your comments, please enclose a stamped, self-addressed postcard or envelope.

The Coast Guard will consider all comments received during the comment period. It may change the proposed rules in view of the comments.

Dated: February 15, 2001.
Joseph J. Angelo,
Director of Standards.

[FR Doc. 01-4549 Filed 2-22-01; 8:45 am]

BILLING CODE 4910-15-P